Title 3—

The President

Proclamation 10787 of July 25, 2024

Anniversary of the Americans With Disabilities Act, 2024

By the President of the United States of America

A Proclamation

Today, we celebrate the anniversary of the Americans with Disabilities Act (ADA), one of our Nation's most significant civil rights laws to protect people with disabilities from discrimination. For the more than 70 million Americans living with a disability, the ADA enshrines into law the idea that we all deserve opportunity, inclusion, respect, and dignity. I am proud to have co-sponsored this landmark legislation years ago, and I am honored to celebrate its lasting legacy today.

The ADA was a historic triumph against discrimination that opened the doors to opportunity and independence for people with disabilities. But more work still needs to be done. Disabled Americans often earn less for the same work as nondisabled people. Additionally, too often, disabled Americans face obstacles that keep them from voting, prohibit them from getting to and from work and school, or limit their ability to enjoy public spaces.

I believe in building an America for all Americans. That is why, in my first few months in office, I signed an Executive Order establishing a Government-wide commitment to advancing equality and equity in Federal employment, including for people with disabilities. It brought together the Department of Labor and the Office of Personnel Management to ensure that Federal workplaces are fully accessible to people with disabilities and that the dignity and rights of disabled Americans are built into our policies.

At the same time, the Department of Labor is also ensuring our workers are protected by ending unjust employment practices across our economy. For example, my Administration is helping State and local governments, businesses, and nonprofits access Federal funds to hire more disabled Americans. And we are making the Federal Government a model employer when it comes to wages, accommodations, and opportunities to advance for people with disabilities.

Further, we are ensuring that every child with a disability, including early learners, receives a rigorous education in a learning environment that supports their development and well-being and leads to promising pathways after high school. To that end, the Department of Education announced funding to involve parents of children with disabilities as partners in creating equitable and inclusive schools.

Concurrently, my Administration is also taking action to improve access to health care for disabled Americans. Through my Inflation Reduction Act, we have lowered health care costs for people with disabilities. The Department of Health and Human Services issued a rule to bar denials of medical care related to organ donations or lifesaving care for disabled Americans based on their disability alone. They also launched long COVID clinical trials to study its debilitating health effects and created the Office of Long COVID Research and Practice with a first-of-its-kind initiative in our history. The United States Access Board has proposed updated medical diagnostic equipment guidelines to ensure people with disabilities can access health care providers and improve accessibility for manual and powered wheelchair users. Further, the National Institutes of Health made it easier for scientists to get funding for research on health disparities in the disability community by designating people with disabilities a “health disparity population.” We also launched the Advanced Research Projects Agency for Health, which is advancing new biomedical science breakthroughs and is opening up new funding for unmet health needs specific to disabled Americans, like biomedicine to prevent, detect, and treat diseases like cancer, diabetes, and multiple sclerosis.

Meanwhile, we are making public spaces and care more accessible to people with disabilities. The American Rescue Plan provided $37 billion to enhance, expand, and strengthen home-based services. That empowers more people with disabilities—including intellectual and developmental disabilities—to live independently at home. In April, the Department of Health and Human Services finalized a rule that will help ensure access to these critical services. Further, our Bipartisan Infrastructure Law makes the biggest investment in our history—$1.75 billion—to make transit and rail stations more accessible. At the same time, we are investing $5 billion to add wheelchair ramps and accessible restrooms at airports and other locations. In addition to issuing a rule that now requires all new single-aisle aircraft over a certain size to have wheelchair-accessible restrooms, the Department of Transportation proposed a new rule to ensure that travelers using wheelchairs can fly safely and with dignity.

Everyone in America should be able to share in the benefits of technology. That is why my Administration has taken action to ensure that we are improving our digital infrastructure for people with disabilities. The Department of Justice issued standards for State and local governments to make their web content and mobile apps more accessible to Americans with disabilities so they can more easily access local government services, emergency services, voting information, and publicly funded education. And my Administration is working to make online health services and applications for jobs in the Federal Government more accessible.

As we celebrate the anniversary of the ADA, we honor the courageous activists who worked so hard to get this historic legislation passed. We recognize the strength of people with disabilities, who remind us every day that America is stronger when we tap into the talents of all our people. And we renew our commitment to moving America closer to the promise of equal opportunity for all Americans.

NOW, THEREFORE, I, JOSEPH R. BIDEN JR., President of the United States of America, by virtue of the authority vested in me by the Constitution and the laws of the United States, do hereby proclaim July 26, 2024, as the Anniversary of the Americans with Disabilities Act. I encourage Americans to celebrate the 34th year of this defining moment in civil rights law and the essential contributions of individuals with disabilities to our Nation.

IN WITNESS WHEREOF, I have hereunto set my hand this twenty-fifth day of July, in the year of our Lord two thousand twenty-four, and of the Independence of the United States of America the two hundred and forty-ninth.

[FR Doc. 2024-16851

Filed 7-29-24; 8:45 am]

Billing code 3395-F4-P